DEPARTMENT OF HEALTH AND HUMAN SERVICES

Health Resources and Services Administration

HIV/AIDS Bureau Policy Notice 99-02

AGENCY: Health Resources and Services Administration (HRSA), HHS.

ACTION: Notice of opportunity to provide written comments.

SUMMARY: The HRSA HIV/AIDS Bureau (HAB) Policy Notice 99-02 entitled, The Use of Ryan White CARE Act funds for Housing Referral Services and Short-term or Emergency Housing Needs, provides grantees with guidance on the use of Ryan White Comprehensive AIDS Resources Emergency (CARE) Act funds for short-term and emergency housing assistance for persons living with HIV/AIDS. The current policy does not establish a time limit for such assistance under the Ryan White CARE Act. An amendment to Policy Notice 99-02 is proposed, which places a cumulative lifetime period of 24 months on short-term and emergency housing assistance under the Ryan White CARE Act.

This proposed amendment results from an Office of Inspector General audit encouraging HRSA to clarify the definition of short-term housing and emergency housing assistance. This amendment will help align the HRSA definition of short-term housing with the widely accepted program standard used by the U.S. Department of Housing and Urban Development, Continuum of Care Homeless Assistance Programs and the Housing Opportunities for Persons with AIDS program. This policy becomes effective March 1, 2007.

SUPPLEMENTARY INFORMATION: The proposed amendment to HRSA HAB Policy Notice 99-02 establishes a cumulative lifetime period of 24 months use of Ryan White CARE Act funds for short-term and emergency housing assistance. Such assistance is limited to a time period totaling a cumulative lifetime period of 24 months per household. HRSA is seeking comments only on the proposed amendment to HRSA HAB Policy Notice 99-02 notated in bold text below.

DATES: Submit written comments no later than February 5, 2007.

ADDRESSES: Written comments should be sent to HRSA, HAB, Division of Science and Policy, Attention: LCDR Gettie A. Butts, 5600 Fishers Lane, Room 7-18, Rockville, Maryland 20857.

FOR FURTHER INFORMATION CONTACT: LCDR Gettie A. Butts, via e-mail: GButts@hrsa.gov or by writing to the address above.

Proposed Policy: HRSA HAB Policy Notice-99-02, Amendment # 1

Document Title: The Use of Ryan White CARE Act Funds for Housing Referral Services and Short-term or Emergency Housing Needs.

The following policy establishes guidelines for allowable housing-related expenditures under the Ryan White CARE Act. The purpose of all Ryan White CARE Act funds is to ensure that eligible HIV-infected persons and families gain or maintain access to medical care.

A. Funds received under the Ryan White CARE Act (Title XXVI of the Public Health Service Act) may be used for the following housing expenditures:

i. Housing referral services defined as assessment, search, placement, and advocacy services must be provided by case managers or other professional(s) who possess a comprehensive knowledge of local, State, and Federal housing programs and how they can be accessed; or

ii. Short-term or emergency housing defined as necessary to gain or maintain access to medical care and must be related to either:

a. Housing services that include some type of medical or supportive service (a listing of supportive services can be found at http://hab.hrsa.gov/reports/data2b.htm) including, but not limited to, residential substance abuse or mental health services (not including facilities classified as an Institute of Mental Diseases under Medicaid), residential foster care, and assisted living residential services; or

b. Housing services that do not provide direct medical or supportive services but are essential for an individual or family to gain or maintain access to and compliance with HIV-related medical care and treatment. Necessity of housing service for purposes of medical care must be certified or documented by a case manager, social worker, or other licensed healthcare professional(s).

B. Short-term or emergency housing assistance is understood as transitional in nature and for the purposes of moving or maintaining an individual or family in a long-term, stable living situation. Such assistance is limited to a cumulative lifetime period of 24 months per household. Short term or emergency assistance must be accompanied by a strategy to:

i. Identify, relocate, and/or ensure the individual or family is moved to a long-term, stable housing; or

ii. Identify an alternate funding source for support of housing assistance.

C. Housing funds cannot be in the form of direct cash payments to recipients or services and cannot be used for mortgage payments.

D. The Ryan White CARE Act must be the payer of last resort. In addition, funds received under the Ryan White CARE Act must be used to supplement but not supplant funds currently being used from local, State, and Federal agency programs. Grantees must be capable of providing HAB with documentation related to the use of funds as payer of last resort and the coordination of such funds with other local, State, and Federal funds.

E. Ryan White CARE Act housing-related expenses are limited to Titles I, II, and IV and are not an allowable expense for Title III.

Dated: November 29, 2006.
Elizabeth M. Duke,
Administrator.

[FR Doc. E6-20556 Filed 12-5-06; 8:45 am]

BILLING CODE 4165-15-P[?USGPO Galley End:?]